DEPARTMENT OF COMMERCE

National Oceanic and Atmospheric Administration

RIN 0648-XC594

New England Fishery Management Council; Public Meeting; Correction

AGENCY: National Marine Fisheries Service (NMFS), National Oceanic and Atmospheric Administration (NOAA), Commerce.

ACTION: Notice of correction of a public meeting.

SUMMARY: The New England Fishery Management Council's (Council) Groundfish Oversight Committee will meet to consider actions affecting New England fisheries in the exclusive economic zone (EEZ).

DATES: The two-day meeting will be held on Tuesday, April 16, 2013 beginning at 12 p.m. and Wednesday, April 17, 2013 beginning at 8:30 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The original notice published in the Federal Register on March 28, 2013 (78 FR 18963). The original notice in the SUMMARY stated that the meeting was for the Recreational Advisory Panel. This notice corrects it to read Groundfish Oversight Committee. All other previously-published information remains unchanged.

Authority: 16 U.S.C. 1801 et seq.

Dated: March 28, 2013.
Tracey L. Thompson,
Acting Deputy Director, Office of Sustainable Fisheries, National Marine Fisheries Service.

[FR Doc. 2013-07623 Filed 4-1-13; 8:45 am]

BILLING CODE 3510-22-P